NATIONAL TRANSPORTATION SAFETY BOARD

Sunshine Act Meeting

Time and Date: 9:30 a.m., Wednesday, October 14, 2009.

Place: NTSB Conference Center, 429 L'Enfant Plaza SW., Washington, DC 20594.

Status: The Two items are open to the public.

Matters To Be Considered:

8152—Aircraft Accident Report—Loss of Control and Impact with Water, Marlin Air Cessna Citation 550, N550BP, Milwaukee, Wisconsin, June 4, 2007

7979A—Pipeline Accident Report—Rupture of Hazardous Liquid Pipeline with Release and Ignition of Propane near Carmichael, Mississippi, on November 1, 2007

News Media Contact: Telephone: (202) 314-6100.

The press and public may enter the NTSB Conference Center one hour prior to the meeting for setup and seating.

Individuals requesting specific accommodations should contact Rochelle Hall at (202) 314-6305 by Friday, October 9, 2009.

The public may view the meeting via a live or archived webcast by accessing a link under “News & Events” on the NTSB home page at http://www.ntsb.gov.

FOR MORE INFORMATION CONTACT: Candi Bing, (202) 314-6403.

Dated: Friday, October 2, 2009
Candi Bing,
Federal Register Alternate Liaison Officer.

[FR Doc. E9-24198 Filed 10-2-09; 4:15 pm]

BILLING CODE 7533-01-P